DEPARTMENT OF JUSTICE

Notice of Lodging of Proposed Consent Decree Under the Clean Air Act

On October 27, 2020, the Department of Justice lodged a proposed Consent Decree with the United States District Court for the Northern District of Indiana in the lawsuit entitled United States v. City of Gary, Indiana, Civil Action No. 20-cv-386.

The Complaint seeks civil penalties and injunctive relief for alleged violations of the Clean Air Act (“CAA”) relating to a closed landfill owned and operated by the City of Gary, Indiana (“Gary” or “City”). The Complaint alleges that Gary: (1) Violated its permit and the CAA by failing to install a compliant gas collection and control system; (2) failed to properly operate its current system; (3) violated the landfill's surface methane standard; (4) failed to monitor proper operation of its flares; and (5) failed to demonstrate compliance with its gas collection wellhead standards. Under the proposed Consent Decree, Gary would be required to take a number of measures to come into compliance with the CAA. The proposed Consent Decree would require Gary to undertake a suite of improvements to Gary's gas collection and control system, including replacement of the existing flare and system upgrades to actively collect, rather than passively vent, landfill gas. Gary would also be required to carry out enhanced monitoring and maintenance requirements and follow certain standard operating procedures, attached to the Consent Decree as appendices. The proposed Consent Decree requires Gary to pay a $20,000 civil penalty.

The publication of this notice opens a period for public comment on the Consent Decree. Comments should be addressed to the Assistant Attorney General, Environment and Natural Resources Division, and should refer to United States v. City of Gary, Indiana, D.J. Ref. No. 90-5-2-1-11714. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $37.75 (25 cents per page reproduction cost) payable to the United States Treasury.

Patricia McKenna,
Assistant Section Chief, Environmental Enforcement Section, Environment and Natural Resources Division.

[FR Doc. 2020-24262 Filed 11-2-20; 8:45 am]

BILLING CODE 4410-15-P